DEPARTMENT OF AGRICULTURE

Natural Resources Conservation Service

[Docket No. NRCS-2018-0005]

Notice of Proposed Changes to the National Handbook of Conservation Practices for the Natural Resources Conservation Service

AGENCY: Natural Resources Conservation Service (NRCS), U.S. Department of Agriculture (USDA).

ACTION: Notice of availability of proposed changes to the National Handbook of Conservation Practices (NHCP) for public review and comment.

SUMMARY: Notice is hereby given of the intention of NRCS to issue a series of revised conservation practice standards in the NHCP. These standards include Combustion System Improvement (Code 372), Dust Control on Unpaved Roads and Surfaces (Code 373), Integrated Pest management (Code 595), Nutrient Management (Code 590), Pesticide Mitigation (Code 594), Subsurface Drain (Code 606), Waste Facility Closure (Code 360), and Wildlife Habitat Planting (Code 420).

NRCS State Conservationists who choose to adopt these practices in their States will incorporate them into Section IV of their respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

DATES: Effective Date: This is applicable September 5, 2018.

Comment Date: Submit comments on or before October 5, 2018. Final versions of these new or revised conservation practice standards will be adopted after the close of the 30-day period and after consideration of all comments.

ADDRESSES: Comments should be submitted, identified by Docket Number NRCS-2018-0005, using any of the following methods:

• Federal eRulemaking Portal: http://www.regulations.gov. Follow the instructions for submitting comments.

• Mail or hand-delivery:Public Comments Processing, Attention: Regulatory and Agency Policy Team, Strategic Planning and Accountability, Natural Resources Conservation Service, 5601 Sunnyside Avenue, Building 1-1112D, Beltsville, Maryland 20705.

NRCS will post all comments on http://www.regulations.gov. In general, personal information provided with comments will be posted. If your comment includes your address, phone number, email, or other personal identifying information (PII), your comments, including PII, may be available to the public. You may ask in your comment that your PII be withheld from public view, but this cannot be guaranteed.

FOR FURTHER INFORMATION CONTACT: Mr. Bill Reck, National Environmental Engineer, Conservation Engineering Division, U.S. Department of Agriculture, Natural Resources Conservation Service, 1400 Independence Avenue Southwest, South Building, Room 6136, Washington, DC 20250.

Electronic copies can be downloaded or printed from http://go.usa.gov/TXye. Requests for paper versions or inquiries may be directed to: Mr. Emil Horvath, National Practice Standards Review Coordinator, Natural Resources Conservation Service, Central National Technology Support Center, 501 West Felix Street, Fort Worth, Texas 76115.

SUPPLEMENTARY INFORMATION: The amount of the proposed changes varies considerably for each of the conservation practice standards addressed in this notice. To fully understand the proposed changes, individuals are encouraged to compare these changes with each standard's current version, which can be found at http://www.nrcs.usda.gov/wps/portal/nrcs/detailfull/national/technical/cp/ncps/?cid=nrcs143_026849. To aid in this comparison, following are highlights of some of the proposed revisions to each standard:

Combustion System Improvement (Code 372)—Revised language of the general criteria and criteria applicable to the air quality and energy purposes to address some confusion encountered in the implementation of the practice.

Dust Control on Unpaved Roads and Surfaces (Code 373)—Relatively minor changes have been made to the 2010 version. Two purposes were added to more adequately describe the reasons for using this practice: “improve visibility by reducing emissions of particulate matter;” and “improve plant health and vigor by reducing emissions of particulate matter.”

Integrated Pest Management (Code 595)—The standard definition and purposes have been updated to reflect current agency policy and science. The standard has been edited to clarify criteria, and support farmers and ranchers wanting to address resource concerns and implement an integrated pest management system where land-grant-university guidelines are available.

Nutrient Management (Code 590)—The revision has no significant definition technical changes. Instead, it has a focus on improving the usability of 590 at the operational level of the agency (i.e. the State and field). The formatting and writing style were updated to meet current agency requirements. Bullet point statements were used to specify single concepts and replace paragraphs containing multiple concepts.

Pesticide Mitigation (Code 594)—A new standard to support farmers and ranchers wanting to address resource concerns created by the use of pesticides in areas where they do not have land-grant university integrated pest management guidelines for one or more of their crops or cropping systems. Proposed Standard 594 offers resource protection using site-specific techniques designed to mitigate the impacts of chemical pest suppression on natural resources.

Subsurface Drain (Code 606)—The formatting and writing style were updated to meet current agency requirements. Sections of the standard were relocated and rearranged to improve document flow. The minimum velocity has been raised to 0.8 feet-per-second for areas without sedimentation problems. Provisions have been included for the use of square junction boxes.

Waste Facility Closure (Code 360)—The formatting and writing style were updated to improve clarity. Criteria was added to dry-waste storages to render the site unsuitable for stacking or treating waste. Language was added to the standard to make it clear that the standard is not used for the rehabilitation or expansion of existing facilities.

Wildlife Habitat Planting (Code 420)—This is a new conservation practice standard developed to better address the technical complexities of establishing wildlife habitat, including pollinator and monarch butterfly habitat plantings. Wildlife Habitat Planting (420) will be planned and applied when establishing herbaceous vegetation for wildlife. Planting trees for wildlife will be planned and applied using Tree and Shrub Establishment (612).

Signed this 28th day of August, 2018, in Washington, DC
Leonard Jordan,
Acting Chief, Natural Resources Conservation Service.

[FR Doc. 2018-19145 Filed 9-4-18; 8:45 am]

BILLING CODE 3410-16-P